DEPARTMENT OF AGRICULTURE

Forest Service

Deschutes and Ochoco National Forests Resource Advisory Committee

AGENCY: Forest Service, USDA.

ACTION: Notice of meeting.

SUMMARY: The Deschutes and Ochoco National Forests Resource Advisory Committee will meet in Bend, Oregon. The purpose of the meeting is to review proposed projects and make recommendations under Title II (Pub. L. 112-141 reauthorized and amended the Secure Rural Schools and Community Self-Determination Act of 2000 (SRS Act) as originally enacted in Pub. L. 106-393).

DATES: The meeting will be held September 24, 2012 from 9:00 a.m. to 5:00 p.m.

ADDRESSES: The meeting will be held at the office of the Central Oregon Intergovernmental Council, 334 NE Hawthorne Avenue, Bend, OR 97701. Send written comments to John Allen as Designated Federal Official, for the Deschutes and Ochoco National Forests Resource Advisory Committee, c/o Forest Service, USDA, Deschutes National Forest, 63095 Deschutes Market Road., Bend, OR 97701 or electronically to jpallent@fs.fed.us.

FOR FURTHER INFORMATION CONTACT: John Allen, Designated Federal Official, Deschutes National Forest, 541-383-5512.

SUPPLEMENTARY INFORMATION: The meeting is open to the public. Committee discussion is limited to Forest Service staff and Committee members. However, persons who wish to bring Title II matters to the attention of the Committee may file written statements with the Committee staff before the meeting. A public input session will be provided and individuals who made written requests by September 17, 2012 will have the opportunity to address the Committee at the session.

Dated: August 23, 2012.
John Allen,
Forest Supervisor.

[FR Doc. 2012-21930 Filed 9-5-12; 8:45 am]

BILLING CODE 3410-11-P